DEPARTMENT OF COMMERCE

International Trade Administration

[A-570-900]

Diamond Sawblades and Parts Thereof From the People's Republic of China: Rescission of Antidumping Duty Administrative Review in Part; 2014-2015

AGENCY: Enforcement and Compliance, International Trade Administration, Department of Commerce.

SUMMARY: The Department of Commerce (the Department) is rescinding its administrative review in part on diamond sawblades and parts thereof (diamond sawblades) from the People's Republic of China (the PRC) for the period of review (POR) November 1, 2014, through October 31, 2015.

DATES: Effective Date: April 22, 2016.

FOR FURTHER INFORMATION CONTACT: Yang Jin Chun, AD/CVD Operations, Office I, Enforcement and Compliance, International Trade Administration, U.S. Department of Commerce, 1401 Constitution Avenue NW., Washington, DC 20230; telephone: (202) 482-5760.

SUPPLEMENTARY INFORMATION:

Background

On November 3, 2015, we published a notice of opportunity to request an administrative review of the antidumping duty order on diamond sawblades from the PRC for the POR November 1, 2014, through October 31, 2015.¹ On January 7, 2016, in response to timely requests from the petitioner ² and Husqvarna (Hebei) Co., Ltd. (Husqvarna) and in accordance with section 751(a) of the Tariff Act of 1930, as amended (the Act), and 19 CFR 351.221(c)(1)(i), we initiated an administrative review of the antidumping duty order on diamond sawblades from the PRC with respect to 36 companies, including Husqvarna.³ On April 12, 2016, the petitioner and Husqvarna withdrew their requests for an administrative review for Husqvarna.⁴

¹ See Antidumping or Countervailing Duty Order, Finding, or Suspended Investigation; Opportunity To Request Administrative Review, 80 FR 67706 (November 3, 2015).

² The petitioner in this review is Diamond Sawblades Manufacturers' Coalition.

³ See Initiation of Antidumping and Countervailing Duty Administrative Reviews, 81 FR 736 (January 7, 2016).

⁴ See the letters of withdrawals of requests for review from the petitioner and Husqvarna dated April 12, 2016.

On January 27, 2016, the Department exercised its discretion to toll its administrative deadlines due to the closure of the Federal Government.⁵ Thus, the deadline for withdrawing a request for an administrative review was extended by four business days to April 12, 2016.⁶ Therefore, the withdrawals of the review requests filed on April 12, 2016, with respect to Husqvarna in this administrative review were timely.

⁵ See Memorandum to the Record from Ron Lorentzen, Acting Assistant Secretary for Enforcement and Compliance, regarding “Tolling of Administrative Deadlines As a Result of the Government Closure During Snowstorm `Jonas'” dated January 27, 2016.

⁶ See the memorandum to the File entitled “Diamond Sawblades and Parts Thereof from the People's Republic of China: Telephone Conversation Concerning Deadline for Withdrawing Review Request” dated April 1, 2016.

Rescission of Administrative Review in Part

Pursuant to 19 CFR 351.213(d)(1), the Department will rescind an administrative review, “in whole or in part, if a party that requested a review withdraws the request within 90 days of the date of publication of notice of initiation of the requested review.” Because the petitioner and Husqvarna withdrew their review requests in a timely manner, and because no other party requested a review of Husqvarna, we are rescinding the administrative review in part with respect to Husqvarna.

Assessment

The Department will instruct U.S. Customs and Border Protection (CBP) to assess antidumping duties on all appropriate entries. For Husqvarna, for which the review is rescinded, antidumping duties shall be assessed at the rate equal to the cash deposit of estimated antidumping duties required at the time of entry, or withdrawal from warehouse, for consumption, in accordance with 19 CFR 351.212(c)(1)(i). The Department intends to issue appropriate assessment instructions to CBP within 15 days after publication of this notice.

Notifications to Importers

This notice serves as a final reminder to importers of their responsibility under 19 CFR 351.402(f)(2) to file a certificate regarding the reimbursement of antidumping duties prior to liquidation of the relevant entries during this review period. Failure to comply with this requirement may result in the Department's presumption that reimbursement of antidumping duties occurred and the subsequent assessment of doubled antidumping duties.

Notification Regarding Administrative Protective Orders

This notice also serves as a reminder to parties subject to administrative protective order (APO) of their responsibility concerning the disposition of proprietary information disclosed under APO, in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: April 18, 2016.
Christian Marsh,
Deputy Assistant Secretary for Antidumping and Countervailing Duty Operations.

[FR Doc. 2016-09417 Filed 4-21-16; 8:45 am]

BILLING CODE 3510-DS-P